DEPARTMENT OF TRANSPORTATION

Federal Aviation Administration

14 CFR Part 39

[Docket No. FAA-2015-1480; Directorate Identifier 2014-SW-071-AD]

RIN 2120-AA64

Airworthiness Directives; Airbus Helicopters (Previously Eurocopter France)

AGENCY: Federal Aviation Administration (FAA), DOT.

ACTION: Notice of proposed rulemaking (NPRM).

SUMMARY: We propose to supersede airworthiness directive (AD) 2002-13-11 for Eurocopter France (now Airbus Helicopters) Model EC120B helicopters. AD 2002-13-11 currently requires installing front and side covers on the cabin floor to protect the yaw control at both the pilot and co-pilot stations. Since we issued AD 2002-13-11, we have determined that the required actions should apply only to the cabin's right-hand pilot station. This proposed AD would retain the requirements of AD 2002-13-11 but for only the pilot station. These proposed actions are intended to prevent an object from sliding between the canopy and the cabin floor, loss of yaw control, and subsequent loss of helicopter control.

DATES: We must receive comments on this proposed AD by July 13, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the Direction Generale De L'Aviation Civile (DGAC) AD, the economic evaluation, and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On June 25, 2002, we issued AD 2002-13-11, Amendment 39-12799 (67 FR 45295, July 9, 2002) for certain serial-numbered Eurocopter France (now Airbus Helicopters) Model EC120B helicopters. AD 2002-13-11 requires installing front and side covers to protect the yaw control at the pilot and co-pilot flight control stations. AD 2002-13-11 was prompted by a report of a mobile phone falling between the windshield canopy and the cabin floor, jamming the yaw control pedal. Those actions were intended to prevent an object from sliding between the canopy and the cabin floor, loss of yaw control, and subsequent loss of helicopter control.

AD 2002-13-11 was prompted by AD No. 2001-386-007(A), dated September 5, 2001, issued by the DGAC, the airworthiness authority for France, to correct an unsafe condition for the Model EC120B helicopter. The DGAC advises of a yaw-control jamming caused by an object that slid between the canopy and the cabin floor.

The DGAC AD required that front and lateral protections be installed no later than December 31, 2001, in compliance with paragraph 2.B of Eurocopter Alert Service Bulletin No. 67A005, Revision 0, dated July 30, 2001. DGAC revised its AD and issued AD 2001-386-007(A) R1, dated February 6, 2002 (AD 2001-386-007(A)R1), which extended the compliance deadline to February 28, 2002.

Actions Since AD 2002-13-11 Was Issued

Since we issued AD 2002-13-11 (67 FR 45295, July 9, 2002), we have determined that the front and side protections are required only at the pilot station. Therefore, we are proposing to remove the final sentence in paragraph (a) of the Compliance section of the AD, which requires that if the helicopter has flight controls at both the pilot and co-pilot stations, the protections must be installed at both stations. Also, since we issued AD 2002-13-11, the format in which we issue ADs has been revised, resulting in changes to the content and ordering of the AD paragraphs. Eurocopter France has also changed its name to Airbus Helicopters. This proposed AD reflects that change and updates the contact information to obtain service documentation.

FAA's Determination

These helicopters have been approved by the aviation authority of France and are approved for operation in the United States. Pursuant to our bilateral agreement with France, the DGAC, which was France's technical representative when AD 2001-386-007(A)R1 was issued, notified us of the unsafe condition described in its AD. We are proposing this AD because we evaluated all known relevant information and determined that an unsafe condition is likely to exist or develop on other products of the same type design.

Related Service Information Under 1 CFR Part 51

We reviewed Eurocopter Alert Service Bulletin No. 67A005, Revision 0, dated July 30, 2001 (ASB), which specifies installing a front and side protection on the cabin floor to protect the yaw control. The DGAC classified this ASB as mandatory and issued AD No. 2001-386-007(A), dated September 5, 2001, and AD 2001-386-007(A)R1, dated February 6, 2002, to ensure the continued airworthiness of these helicopters in France.

This service information is reasonably available because the interested parties have access to it through their normal course of business or by the means identified in the ADDRESSES section of this NPRM.

Proposed AD Requirements

This proposed AD would require, within 90 days, installing front and side covers (protections) on the cabin floor at the pilot station to protect the yaw control.

Costs of Compliance

We estimate that this proposed AD would affect 37 helicopters of U.S. Registry and that labor costs would average $85 a work-hour. Required parts would cost about $584 and it would take about 2 work-hours to accomplish the proposed actions. Based on these figures, we estimate that the total cost of this proposed AD would be $754 per helicopter and $27,898 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2002-13-11, Amendment 39-12799 (67 FR 45295, July 9, 2002), and adding the following new AD:

Airbus Helicopters (Previously Eurocopter France): Docket No. FAA-2015-1480; Directorate Identifier 2014-SW-071-AD.

(a) Applicability

This AD applies to Model EC120B helicopters, serial numbers 1001 through 1278, inclusive, certificated in any category.

(b) Unsafe Condition

This AD defines the unsafe condition as an object sliding between the canopy and the cabin floor. This condition could result in loss of yaw control and subsequent loss of control of the helicopter.

(c) Affected ADs

This AD supersedes AD 2002-13-11, Amendment 39-12799 (67 FR 45295, July 9, 2002).

(d) Comments Due Date

We must receive comments by July 13, 2015.

(e) Compliance

You are responsible for performing each action required by this AD within the specified compliance time unless it has already been accomplished prior to that time.

(f) Required Actions

Within 90 days, install front and side covers (protections) to protect the yaw control in accordance with the Accomplishment Instructions, paragraph 2.B., of Eurocopter Alert Service Bulletin No. 67A005, Revision 0, dated July 30, 2001 (ASB), except the correct reference to the Aircraft Maintenance Manual in subparagraph 2.B.2 of the ASB is 20-10-00, 3-8.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in the Direction General De L'Aviation Civile (DGAC) AD No. 67A005, Revision 1, dated February 6, 2002. You may view the DGAC AD on the Internet at http://www.regulations.gov in Docket No. FAA-2015-1480.

(i) Subject

Joint Aircraft Service Component (JASC) Code: 2500, Cabin Equipment/Furnishings.

Issued in Fort Worth, Texas, on May 1, 2015.
Lance T. Gant,
Acting Directorate Manager, Rotorcraft Directorate, Aircraft Certification Service.

[FR Doc. 2015-11522 Filed 5-13-15; 8:45 am]

BILLING CODE 4910-13-P